DEPARTMENT OF ENERGY

Federal Energy Regulatory Commission

Combined Notice of Filings #1

Take notice that the Commission received the following electric rate filings:

Docket Numbers: ER10-2179-019; ER10-2181-019; ER10-2182-019.

Applicants: Calvert Cliffs Nuclear Power Plant, LLC, Nine Mile Point Nuclear Station, LLC, R.E. Ginna Nuclear Power Plant, LLC.

Description: Notice of Non-Material Change in Status of Calvert Cliffs Nuclear Power Plant, LLC, et al.

Filed Date: 6/21/13.

Accession Number: 20130621-5103.

Comments Due: 5 p.m. ET 7/12/13.

Docket Numbers: ER11-2560-000; ER11-3156-000.

Applicants: Entergy Arkansas, Inc.

Description: Refund Report in Docket Nos. ER11-2560 and ER11-3156 to be effective N/A.

Filed Date: 6/21/13.

Accession Number: 20130621-5066.

Comments Due: 5 p.m. ET 7/12/13.

Docket Numbers: ER13-1206-001.

Applicants: PacifiCorp.

Description: OATT Revised Schedules 3 and 3A Deficiency Filing to be effective 6/1/2013.

Filed Date: 6/20/13.

Accession Number: 20130620-5139.

Comments Due: 5 p.m. ET 7/11/13.

Docket Numbers: ER13-1737-000.

Applicants: Southwest Power Pool, Inc.

Description: 1636R10 Kansas Electric Power Cooperative, Inc. NITSA and NOA to be effective 6/1/2013.

Filed Date: 6/21/13.

Accession Number: 20130621-5039.

Comments Due: 5 p.m. ET 7/12/13.

Docket Numbers: ER13-1738-000.

Applicants: Alcoa Power Generating Inc.

Description: Market-Based Rate Tariff Revisions to be effective 6/21/2013.

Filed Date: 6/21/13.

Accession Number: 20130621-5041.

Comments Due: 5 p.m. ET 7/12/13.

Docket Numbers: ER13-1739-000.

Applicants: Alcoa Power Marketing LLC.

Description: Market-Based Rate Tariff Revisions to be effective 6/21/2013.

Filed Date: 6/21/13.

Accession Number: 20130621-5042.

Comments Due: 5 p.m. ET 7/12/13.

Docket Numbers: ER13-1740-000.

Applicants: Wisconsin Public Service Corporation.

Description: Revised BAOCA between WPSC and WEPCO to be effective 6/21/2013.

Filed Date: 6/21/13.

Accession Number: 20130621-5050.

Comments Due: 5 p.m. ET 7/12/13.

Docket Numbers: ER13-1741-000.

Applicants: Upper Peninsula Power Company.

Description: Revised BAAOCA Between UPPCO and WEPCO to be effective 6/21/2013.

Filed Date: 6/21/13.

Accession Number: 20130621-5054.

Comments Due: 5 p.m. ET 7/12/13.

Docket Numbers: ER13-1742-000.

Applicants: New England Power Pool Participants Committee, ISO New England Inc.

Description: MR1 Clarifications to Full Inte. Rules for Price-Res. Demand-Net Supply to be effective 8/21/2013.

Filed Date: 6/21/13.

Accession Number: 20130621-5055.

Comments Due: 5 p.m. ET 7/12/13.

Docket Numbers: ER13-1743-000.

Applicants: Entergy Arkansas, Inc.

Description: Compliance Filing in Docket Nos. ER11-2560 and ER11-3156 to be effective 3/1/2012.

Filed Date: 6/21/13.

Accession Number: 20130621-5063.

Comments Due: 5 p.m. ET 7/12/13.

Docket Numbers: ER13-1744-000.

Applicants: DPL Energy, LLC.

Description: Rate Schedule No. 3 to be effective 6/21/2013.

Filed Date: 6/21/13.

Accession Number: 20130621-5067.

Comments Due: 5 p.m. ET 7/12/13.

Docket Numbers: ER13-1745-000.

Applicants: GenOn Bowline, LLC.

Description: Notice of Succession to be effective 6/24/2013.

Filed Date: 6/21/13.

Accession Number: 20130621-5070.

Comments Due: 5 p.m. ET 7/12/13.

Docket Numbers: ER13-1746-000.

Applicants: GenOn Marsh Landing, LLC.

Description: Notice of Succession to be effective 6/24/2013.

Filed Date: 6/21/13.

Accession Number: 20130621-5086.

Comments Due: 5 p.m. ET 7/12/13.

Take notice that the Commission received the following open access transmission tariff filings:

Docket Numbers: OA13-6-000.

Applicants: Alcoa Power Generating Inc.

Description: Request for Waiver of Alcoa Power Generating Inc.

Filed Date: 6/21/13.

Accession Number: 20130621-5094.

Comments Due: 5 p.m. ET 7/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2013.
Nathaniel J. Davis, Sr.,
Deputy Secretary.

[FR Doc. 2013-15991 Filed 7-2-13; 8:45 am]

BILLING CODE 6717-01-P